DEPARTMENT OF TRANSPORTATION

Federal Aviation Administration

Proposed Notification Regarding the Use of Approved Model List (AML) for Avionics Systems and Component Installation Approvals

AGENCY: Federal Aviation Administration (FAA), DOT.

ACTION: Notice of intent and request for comments.

SUMMARY: AML Supplemental Type Certificate (STC) Approvals for installation of complex avionics system and components targeted for installation in small airplanes are deemed as significant programs as defined in Order 8100.5 and Order 8110.4 and require coordination with the Small Airplane Directorate until otherwise noted. This includes AML STC approvals made by holders of FAA delegations—Designated Alteration Station (DAS) or Delegation Option Authorization (DOA). Complex avionics projects can sometimes be controversial since they may involve new technology that has either not been previously certified, or for which certification criteria has not been published. The increased coordination is necessary to improve standardization of the AML STC process and develop better practices for future AML STC policy.

DATES: Send comments on or before August 31, 2003.

ADDRESSES: Address comments to the individual assigned under FOR FURTHER INFORMATION CONTACT. Comments may be mailed to: Federal Aviation Administration, Regulations & Policy, ACE-110, Room 301, 901 Locust, Kansas City, Missouri 64106. Also, comments may be sent by electronic mail to wes.ryan@faa.gov.

FOR FURTHER INFORMATION CONTACT: Wes Ryan, Aerospace Engineer, Standards Office (ACE-110), Small Airplane Directorate, Aircraft Certification Service, Federal Aviation Administration, 901 Locust, Room 301, Kansas City, Missouri 64106; telephone (816) 329-4127, fax (816) 329-4090.

SUPPLEMENTARY INFORMATION

Comments Invited

We invite your comments on this notice. Send any data or views pertaining to the subject of this notice, as desired. Identify comments with “AML STC Process Comments, ATTN: Wes Ryan”. The FAA will consider all comments received on or before the closing date listed above before issuing a final notification.

Background Information

AML STC approvals have ranged from simple in-flight entertainment systems to complex primary flight displays. There has been a wide variation in the complexity of the avionics systems and components being approved for use in small airplanes and in the interpretation of current guidance regarding approval of these systems using the AML process. In addition, the ACO procedures for adding or removing models to the AML are not standardized. As a result, the coordination of all AML STC projects with the FAA Small Airplane Directorate Standards Office should facilitate standardization of the AML STC process.

Issued in Kansas City, Missouri, on July 21, 2003.
Michael Gallagher,
Manager, Small Airplane Directorate, Aircraft Certification Service.

[FR Doc. 03-20405 Filed 8-8-03; 8:45 am]

BILLING CODE 4910-13-P